DEPARTMENT OF TRANSPORTATION

Federal Aviation Administration

RTCA, Inc.; Government Industry Free Flight Steering Committee

Pursuant to section 10(a)(2) of the Federal Advisory Committee Act (P.L. 92-463, 5 U.S.C., Appendix 2), notice is hereby given for an RTCA Government/Industry Free Flight Steering Committee meeting to be held April 13, 2000, starting at 1:00 pm. The meeting will be held at the Federal Aviation Administration, 800 Independence Avenue, SW., Washington, DC 20591, in the Bessie Coleman Conference Center, Room 2AB (second floor).

The agenda will include: (1) Welcome and Opening Remarks: (a) Recognizing Departing Members of the Steering Committee; (b) Welcome Incoming Members. (2) Review Summary of the Previous Meeting; (3) Report and Recommendations from the Free Flight Select Committee: (c) Status Report—Merging Government/Industry and FAA Operational Concepts; (d) Safe Flight 21 Update. (4) Reports from FAA on: (e) Free Flight Phase 1 Baseline Data and Performance Assessments Update; (f) Controller-Pilot Data Link Communications (CPDLC) Update. (5) Other Business; (6) Date and Location of Next Meeting; (7) Closing Remarks.

Attendance is open to the interested public but limited to space availability. With the approval of the co-chairmen, members of the public may present oral statements at the meeting. Persons wishing to present statements or obtain information should contact the RTCA, Inc., at (202) 833-9339 (phone), (202) 833-9434 (facsimile).

Issued in Washington, DC on March 21, 2000.
Janice L. Peters,
Designated Official.

[FR Doc. 00-7496 Filed 3-24-00; 8:45 am]

BILLING CODE 4910-13-M